DEPARTMENT OF COMMERCE

International Trade Administration

[A-520-804]

Certain Steel Nails From the United Arab Emirates: Final Results of Antidumping Duty Administrative Review; 2020-2021

AGENCY: Enforcement and Compliance, International Trade Administration, Department of Commerce.

SUMMARY: The U.S. Department of Commerce (Commerce) determines that certain steel nails from the United Arab Emirates were sold in the United States at less than normal value during the period of review (POR) May 1, 2020, through April 30, 2021.

DATES: Applicable October 12, 2022.

FOR FURTHER INFORMATION CONTACT: Brittany Bauer or Kelsie Hohenberger, AD/CVD Operations, Office V, Enforcement and Compliance, International Trade Administration, Department of Commerce, 1401 Constitution Avenue NW, Washington, DC 20230; telephone: (202) 482-3860 or (202) 482-2517, respectively.

SUPPLEMENTARY INFORMATION:

Background

On June 7, 2022, Commerce published the Preliminary Results.¹ We invited interested parties to comment.² This review covers one respondent: Middle East Manufacturing Steel LLC/Master Nails and Pins Manufacturing, LLC (MEM/Master).³ No party commented on the Preliminary Results, and the final results remain unchanged from the Preliminary Results.

¹ See Certain Steel Nails from the United Arab Emirates: Preliminary Results of Antidumping Duty Administrative Review; 2020-2021, 87 FR 34637 (June 7, 2022) (Preliminary Results), and accompanying Preliminary Decision Memorandum.

² Id., 87 FR at 34639.

³ Commerce selected two mandatory respondents for individual examination in this review: Middle East Manufacturing Steel LLC and Master Nails and Pins Manufacturing, LLC. We find, however, that it is appropriate to treat the companies as a single entity. See Memoranda, “Antidumping Duty Administrative Review of Certain Steel Nails from the United Arab Emirates: Middle East Manufacturing Steel LLC and Master Nails and Pins Manufacturing LLC—Preliminary Affiliation and Single Entity Treatment,” dated May 31, 2022; and “Administrative Review of Antidumping Duty Order on Certain Steel Nails from the United Arab Emirates: Respondent Selection,” dated August 13, 2021.

Commerce conducted this review in accordance with section 751 of the Tariff Act of 1930, as amended (the Act).

Scope of the Order ⁴

⁴ See Certain Steel Nails from the United Arab Emirates: Amended Final Determination of Sales at Less Than Fair Value and Antidumping Duty Order, 77 FR 27421 (May 10, 2012) (Order).

The merchandise covered by the Order includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot-dipping one or more times), phosphate cement, and paint. Head styles include, but are not limited to, flat, projection, cupped, oval, brad, headless, double, countersunk, and sinker. Shank styles include, but are not limited to, smooth, barbed, screw threaded, ring shank and fluted shank styles. Screw-threaded nails subject to the Order are driven using direct force and not by turning the fastener using a tool that engages with the head. Point styles include, but are not limited to diamond, blunt, needle, chisel and no point. Certain steel nails may be sold in bulk, or they may be collated into strips or coils using materials such as plastic, paper, or wire.

Certain steel nails subject to the Order are currently classified under the Harmonized Tariff Schedule of the United States (HTSUS) subheadings 7317.00.55, 7317.00.65, and 7317.00.75.

Excluded from the scope of the Order are steel nails specifically enumerated and identified in ASTM Standard F 1667 (2011 revision) as Type I, Style 20 nails, whether collated or in bulk, and whether or not galvanized. Also excluded from the scope of the Order are the following products:

• non-collated (i.e., hand-drive or bulk), two-piece steel nails having plastic or steel washers (“caps”) already assembled to the nail, having a bright or galvanized finish, a ring, fluted or spiral shank, an actual length of 0.500″ to 8″, inclusive; an actual shank diameter of 0.1015″ to 0.166″, inclusive; and an actual washer or cap diameter of 0.900″ to 1.10″, inclusive;

• non-collated (i.e., hand-drive or bulk), steel nails having a bright or galvanized finish, a smooth, barbed or ringed shank, an actual length of 0.500″ to 4″, inclusive; an actual shank diameter of 0.1015″ to 0.166″, inclusive; and an actual head diameter of 0.3375″ to 0.500″, inclusive;

• wire collated steel nails, in coils, having a galvanized finish, a smooth, barbed or ringed shank, an actual length of 0.500″ to 1.75″, inclusive; an actual shank diameter of 0.116″ to 0.166″, inclusive; and an actual head diameter of 0.3375″ to 0.500″, inclusive;

• non-collated (i.e., hand-drive or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive;

• corrugated nails. A corrugated nail is made of a small strip of corrugated steel with sharp points on one side;

• thumb tacks, which are currently classified under HTSUS 7317.00.10.00;

• fasteners suitable for use in powder-actuated hand tools, not threaded and threaded, which are currently classified under HTSUS 7317.00.20 and 7317.00.30;

• certain steel nails that are equal to or less than 0.0720 inches in shank diameter, round or rectangular in cross section, between 0.375 inches and 2.5 inches in length, and that are collated with adhesive or polyester film tape backed with a heat seal adhesive; and

• fasteners having a case hardness greater than or equal to 50 HRC, a carbon content greater than or equal to 0.5 percent, a round head, a secondary reduced-diameter raised head section, a centered shank, and a smooth symmetrical point, suitable for use in gas-actuated hand tools.

While the HTSUS subheadings are provided for convenience and customs purposes, the written description of the scope of the Order is dispositive.

Final Results of the Review

We determine that the following weighted-average dumping margin exists for the respondent for the POR, May 1, 2020, through April 30, 2021:

Exporter/producer | Weighted- average dumping margin (percent)
Middle East Manufacturing Steel LLC/Master Nails and Pins Manufacturing, LLC | 3.65
Review-Specific Average Rate Applicable to the Following Companies:
Al Falaq Building Materials | 3.65
Al Khashab Building Materials Co., LLC | 3.65
Al Rafaa Star Building Materials Est | 3.65
Al Sabbah Trading and Importing, Est | 3.65
All Ferro Building Materials, LLC | 3.65
Asgarali Yousuf Trading Co., LLC | 3.65
Azymuth Consulting, LLC | 3.65
Burj Al Tasmeem, Tr | 3.65
Gheewala Hardware Trading Company, LLC | 3.65
New World International, LLC | 3.65
Okzeela Star Building Materials Trading, LLC | 3.65
Rich Well Steel Industries LLC | 3.65
Rishi International, FZCO | 3.65
Samrat Wire Industry, LLC | 3.65
Sea Lan Contracting | 3.65
SK Metal International DMCC | 3.65
Trade Circle Enterprises, LLC | 3.65

Disclosure

As noted above, no party commented on Commerce's Preliminary Results. As a result, we have not modified our analysis from the Preliminary Results, and we will not issue a decision memorandum to accompany this Federal Register notice. We are adopting the Preliminary Results as the final results of this review. Further, because we have not changed our calculations since the Preliminary Results, there are no new calculations to disclose in accordance with 19 CFR 351.224(b) for these final results.

Assessment Rates

Pursuant to section 751(a)(2)(C) of the Act and 19 CFR 351.212(b)(1), Commerce has determined, and U.S. Customs and Border Protection (CBP) shall assess, antidumping duties on all appropriate entries of subject merchandise in accordance with the final results of this review. For MEM/Master, we will calculate importer-specific ad valorem assessment rates based on the ratio of the total amount of dumping calculated for the examined sales to the total entered value of those same sales in accordance with 19 CFR 351.212(b)(1).

Consistent with Commerce's assessment practice, for entries of subject merchandise during the POR produced by MEM/Master for which MEM/Master did not know that the merchandise was destined for the United States, we will instruct CBP to liquidate unreviewed entries at the all-others rate if there is no rate for the intermediate company(ies) involved in the transaction.⁵

⁵ For a full discussion of this practice, see Antidumping and Countervailing Duty Proceedings: Assessment of Antidumping Duties, 68 FR 23954 (May 6, 2003).

For the companies which were not selected for individual examination, we intend to assign an assessment rate based on the rate calculated for MEM/Master, as noted above.

Commerce intends to issue assessment instructions to CBP no earlier than 35 days after the date of publication of the final results of this review in the Federal Register. If a timely summons is filed at the U.S Court of International Trade, the assessment instructions will direct CBP not to liquidate relevant entries until the time for parties to file a request for a statutory injunction has expired (i.e., within 90 days of publication).

Cash Deposit Requirements

The following cash deposit requirements for estimated antidumping duties will be effective for all shipments of subject merchandise entered, or withdrawn from warehouse, for consumption on or after the publication date of the final results of this administrative review, as provided by section 751(a)(2)(C) of the Act: (1) the cash deposit rate for MEM/Master will be equal to its weighted-average dumping margin established in the final results of this administrative review; (2) for merchandise exported by a producer or exporter not covered in this review but covered in a prior completed segment of the proceeding, the cash deposit rate will continue to be the company-specific rate published for the most recently completed segment of this proceeding; (3) if the exporter is not a firm covered in this review, a prior review, or the original less-than-fair-value (LTFV) investigation, but the producer has been covered in a prior completed segment of this proceeding, the cash deposit rate will be the company-specific rate established for the most recent period for the producer of the merchandise; (4) the cash deposit rate for all other producers or exporters will continue to be 4.30 percent,⁶ the all-others rate established in the LTFV investigation. These cash deposit requirements, when imposed, shall remain in effect until further notice.

⁶ See Order.

Notification to Importers

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties.

Administrative Protective Order

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

Notification to Interested Parties

We are issuing and publishing this notice in accordance with section 751(a)(1) and 777(i) of the Act, and 19 CFR 351.221(b)(5).

Dated: October 4, 2022.
Lisa W. Wang,
Assistant Secretary for Enforcement and Compliance.

[FR Doc. 2022-22105 Filed 10-11-22; 8:45 am]

BILLING CODE 3510-DS-P